SMALL BUSINESS ADMINISTRATION

[Disaster Declaration #15380 and #15381; ILLINOIS Disaster Number IL-00049]

Administrative Declaration of a Disaster for the State of Illinois

AGENCY: U.S. Small Business Administration.

ACTION: Notice.

SUMMARY: This is a notice of an Administrative declaration of a disaster for the State of Illinois dated 11/13/2017.

Incident: Severe Storms and Flooding.

Incident Period: 07/11/2017 through 07/27/2017.

DATES: Issued on 11/13/2017.

Physical Loan Application Deadline Date: 01/12/2018.

Economic Injury (EIDL) Loan Application Deadline Date: 08/13/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Lake

Contiguous Counties:

Illinois: Cook, McHenry

Wisconsin: Kenosha

The Interest Rates are:

| Percent
For Physical Damage:
Homeowners With Credit Available Elsewhere | 3.875
Homeowners Without Credit Available Elsewhere | 1.938
Businesses With Credit Available Elsewhere | 6.430
Businesses Without Credit Available Elsewhere | 3.215
Non-Profit Organizations With Credit Available Elsewhere | 2.500
Non-Profit Organizations Without Credit Available Elsewhere | 2.500
For Economic Injury:
Businesses & Small Agricultural Cooperatives Without Credit Available Elsewhere | 3.215
Non-Profit Organizations Without Credit Available Elsewhere | 2.500

The number assigned to this disaster for physical damage is 15380 6 and for economic injury is 15381 0. The States which received an EIDL Declaration # are Illinois, Wisconsin.

(Catalog of Federal Domestic Assistance Number 59008)

Dated: November 13, 2017.
Linda E. McMahon,
Administrator.

[FR Doc. 2017-25118 Filed 11-20-17; 8:45 am]

BILLING CODE 8025-01-P